FEDERAL COMMUNICATIONS COMMISSION

47 CFR Parts 1, 63, and 64

[IB Docket No. 04-226; FCC 04-133]

Mandatory Electronic Filing for International Telecommunications Services and Other International Filings

AGENCY: Federal Communications Commission.

ACTION: Notice of proposed rulemaking.

SUMMARY: This document is a summary of the Notice of Proposed Rulemaking adopted by the Commission in this proceeding. The Commission seeks comment on the proposals to eliminate paper filings and require applicants to file electronically all applications and other filings related to international telecommunications services. The Commission initiated this proceeding to further its goals to increase the efficiency of application processing and to expedite the availability of the application information for public use and inspection.

DATES: Comments are due on or before October 8, 2004, and reply comments are due on or before November 8, 2004. Written comments on the Paperwork Reduction Act proposed information collection requirements must be submitted by the public, Office of Management and Budget (OMB), and other interested parties on or before October 8, 2004.

ADDRESSES: Federal Communications Commission, 445 12th Street, SW., Washington, DC 20554. In addition to filing comments with the Secretary, a copy of any comments on the Paperwork Reduction Act information collection requirements contained herein should be submitted to Judith B. Herman, Federal Communications Commission, Room 1-C804, 445 12th Street, SW., Washington, DC 20554, or via the Internet to Judith-B.Herman@fcc.gov, and to Kristy L. LaLonde, OMB Desk Officer, Room 10234 NEOB, 725 17th Street, NW., Washington, DC 20503, via the Internet to Kristy_L.LaLonde@omb.eop.gov, or via fax at 202-395-5167.

FOR FURTHER INFORMATION CONTACT: JoAnn Ekblad, Peggy Reitzel, or John Copes, Policy Division, International Bureau, and (202) 418-1460. For information concerning the Paperwork Reduction Act information collection requirements contained in this document, contact Judith B. Herman at (202) 418-0214, or via the Internet at JudithB.Herman@fcc.gov.

SUPPLEMENTARY INFORMATION: This is a summary of the Commission's Notice of Proposed Rulemaking in IB Docket No.04-226, FCC 04-133, adopted June 10, 2004 and released June 30, 2004. The full text of this Commission decision is available for inspection and copying during normal business hours in the FCC Reference Center (Room CY-A257), 445 12th Street, SW., Washington, DC 20554. The document is also available for download over the Internet at http://hraunfoss.fcc.gov/edocs_public/attachmatch/FCC-04-70.pdf. The complete text may also be purchased from the Commission's copy contractor, Best Copy and Printing, Inc., in person at 445 12th Street, SW., Room CY-B402, Washington, DC 20554, via telephone at (202) 488-5300, via facsimile at (202) 488-5563, or via e-mail at fcc@bcpiweb.com. The Notice of Proposed Rulemaking (NPRM) contains proposed information collections subject to the Paperwork Reduction Act of 1995 (PRA), Public Law 104-3. It will be submitted to the Office of Management and Budget (OMB) for review under the PRA. OMB, the general public, and other Federal agencies are invited to comment on the proposed information collections contained in this proceeding.

Background

In the NPRM, the Commission proposes to eliminate paper filings and require applicants to file electronically all applications and other filings related to international telecommunications services via the International Bureau Filing System (IBFS). Specifically, the Commission proposes to accept only electronically filed accounting rate changes, requests for assignment of a data network identification code, foreign carrier notifications, applications related to International Section 214 authorizations, applications related to submarine cable landing licenses, requests for recognized operating agency status, requests for assignment of an international signaling point code, and other associated filings.

The NPRM describes the benefits of electronic filing. The Commission concludes that mandatory electronic filing will further the Commission's goals to increase the efficiency of application processing and to expedite the availability of the application information for public use and inspection. Also, the Commission concludes that electronic filing would not impose any undue burdens on parties. The Commission seeks comment on these tentative conclusions and its proposal to mandate electronic filing for all international filings described in the NPRM.

The NPRM describes the variety of applications and reports that applicants and authorized carriers must file with the Commission in connection with international telecommunications services. The NPRM contains a list of those filings for which mandatory electronic submission will be required through IBFS. In addition, the NPRM contains a list of filings that currently are not available for electronic submission. As a practical matter, the Commission cannot require mandatory electronic filing for any type of service until an IBFS electronic filing for is available, however the Commission is developing electronic forms for these submissions. The Commission seeks comments on making mandatory the electronic filing of those submissions currently processed manually.

The NPRM proposes to continue the Commission's policies for the confidential treatment of certain materials. Currently, IBFS does not accommodate confidential filings, but the Commission intends to develop the capability of IBFS to accommodate confidentially filed pleadings and applications. The NPRM seeks comment on this proposal.

The NPRM seeks comment on whether it would be necessary to implement a transition period to allow applicants and carriers to adjust to any changes to the rules. The NPRM proposes a 60-day transition period. The NPRM also proposes that, after the 60-day transition period, any filings received manually will be returned to the applicant or carrier without processing. The NPRM proposes to require mandatory electronic filing for those filings for which an IBFS form exists and will require additional filings to be made electronically as new IBFS forms are introduced. As each new IBFS form becomes available for electronic use, we propose to issue a public notice announcing the new electronic features.

Finally, the NPRM seeks comment on whether we should adopt a waiver process to allow an applicant to request a waiver of the proposed mandatory electronic filing requirements.

Procedural Matters

Initial Paperwork Reduction Act Analysis

This document contains proposed information collection requirements. The Commission, as part of its continuing effort to reduce paperwork burdens, invites the general public and the Office of Management and Budget (OMB) to comment on the information collection requirements contained in this document, as required by the Paperwork Reduction Act (PRA) of 1995, Public Law 104-13. Public and agency comments are due on or before October 8, 2004. Comments should address: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. In addition, pursuant to the Small Business Paperwork Relief Act of 2002, Public Law 107-198, see 44 U.S.C. 3506(c)(4), we seek specific comment on how we might “further reduce the information collection burden for small business concerns with fewer than 25 employees.”

OMB Control Number: 3060-0454.

Title: Regulation of International Accounting Rates.

Form No.: Not applicable.

Type of Review: Revision of a currently approved collection.

Respondents: Business or other for-profit entities.

Number of Respondents: 760.

Estimated Time Per Response: 1 hour.

Frequency of Response: Quarterly, annual, on occasion.

Total Annual Burden: 760 hours.

Total Annual Costs: n/a.

Needs and Uses: The information will be used by the Commission staff to monitor the international accounting rates to insure that the public interest is being served and also to enforce Commission policies. New Internet filing forms will allow all interested persons to file electronically via the International Bureau Filing System (IBFS).

OMB Control Number: 3060-0357.

Title: Request for Designation as a Recognized Private Operating Agency—Section 63.701.

Form No.: Not applicable.

Type of Review: Revision of a currently approved collection.

Respondents: Business and other for-profit entities.

Number of Respondents: 30.

Estimated Time Per Response: 150 hours.

Frequency of Response: On occasion.

Total Annual Burden: 4,500 hours.

Total Annual Costs: N/A.

Needs and Uses: The information is needed by the Commission in making a determination to submit to the U.S. Department of State whether or not to designate persons requesting recognized private operating agency (RPOA) status. New Internet filing forms will allow all interested persons to file electronically via the International Bureau Filing System (IBFS).

OMB Control Number: 3060-0686.

Title: Streamlining the International Section 214 Authorization Process and Tariff Requirements.

Form No.: Not applicable.

Type of Review: Revision of a currently approved collection.

Respondents: Business or other for-profit entities.

Number of Respondents: 760.

Estimated Time Per Response: 6,307 hours.

Frequency of Response: Quarterly, annual, on occasion.

Total Annual Burden: 142,169 hours.

Total Annual Costs: N/A.

Needs and Uses: The information will be used by the Commission staff in carrying out its duties under the Communications Act and the Submarine Cable Landing License Act. New Internet filing forms will allow all interested persons to file electronically via the International Bureau Filing System (IBFS).

OMB Control Number: 3060-0944.

Title: Review of Commission Consideration of Applications under the Cable Landing License Act.

Form No.: Not applicable.

Type of Review: Revision of a currently approved collection.

Respondents: Business and other for-profit entities.

Number of Respondents: 271.

Estimated Time Per Response: 95 hours.

Frequency of Response: On occasion.

Total Annual Burden: 25,745 hours.

Total Annual Costs: N/A.

Needs and Uses: The information will be used by the Commission staff in carrying out its duties under the Communications Act and the Submarine Cable Landing License Act. New Internet filing forms will allow all interested persons to file electronically via the International Bureau Filing System (IBFS).

OMB Control Number: 3060-1029.

Title: Data Network Identification Code.

Form No.: Not applicable.

Type of Review: Revision of a currently approved collection.

Respondents: Business or other for-profit entities.

Number of Respondents: 5.

Estimated Time Per Response: .25 hours.

Frequency of Response: On occasion reporting requirement.

Total Annual Burden: 1 hour.

Total Annual Costs: N/A.

Needs and Uses: A Data Network Identification Code (DNIC) is a unique, four-digit code designed to provide discreet identification of individual public data networks. The DNIC is intended to identify and permit automated switching of data traffic to particular networks. The Commission grants the DNIC's to operators of public data networks on an international protocol. The operators of public data networks file an application for a DNIC on the electronic, Internet-based International Bureau Filing System (IBFS). The DNIC is obtained free of charge on a one-time only basis unless there is a change in ownership or the owner chooses to relinquish the code to the Commission. New Internet filing forms will allow all interested persons to file electronically via the International Bureau Filing System (IBFS).

OMB Control Number: 3060-1028.

Title: International Signaling Point Code.

Form No.: Not applicable.

Type of Review: Revision of a currently approved collection.

Respondents: Business and other for-profit entities.

Number of Respondents: 40.

Estimated Time Per Response: .166 hours (10 minutes).

Frequency of Response: On occasion reporting requirement; third-party disclosure requirement.

Total Annual Burden: 7 hours.

Total Annual Costs: N/A.

Needs and Uses: The International Signaling Point Code (ISPC) is a signaling point code with a unique format used at the international level for signaling message routing and identification of signaling points involved. The ISPC consists of a unique, seven-digit code, synonymous with a telephone area code that identifies each international carrier. The Commission assigns ISPC's to international carriers in response to their filing of an ISPC application on the electronic, Internet-based International Bureau Filing System. The Commission issues the code to international carriers free of charge on a first-come, first-served basis and informs the International Telecommunications Union (ITU) of its actions. New Internet filing forms will allow all interested persons to file electronically via the International Bureau Filing System (IBFS).

Initial Regulatory Flexibility Certification

The Regulatory Flexibility Act of 1980, as amended (RFA) requires that a Regulatory Flexibility Act analysis be prepared for notice-and-comment rule making proceedings, unless the agency certifies that “the rule will not, if promulgated, have a significant economic impact on a substantial number of small entities.” See 5 U.S.C. 601-602, has been amended by the Small Business Regulatory Enforcement Fairness Act of 1996 (SBREFA), Public Law No. 104-121, Title II, 110 Stat. 857 (1996). The RFA generally defines the term “small entity” as having the same meaning as the terms “small business,” “small organization,” and “small governmental jurisdiction.” In addition, the term “small business” has the same meaning as the term “small business concern” under the Small Business Act. A “small business concern” is one which: (1) Is independently owned and operated; (2) is not dominant in its field of operation; and (3) satisfies any additional criteria established by the Small Business Administration (SBA). See 5 U.S.C. 601(3) (incorporating by reference the definition of “small-business concern” in the Small Business Act, 15 U.S.C. 632). Pursuant to 5 U.S.C. 601(3), the statutory definition of a small business applies “unless an agency, after consultation with the Office of Advocacy of the Small Business Administration and after opportunity for public comment, establishes one or more definitions of such terms which are appropriate to the activities of the agency and publishes such definition(s) in the Federal Register.”

In this International E-Filing NPRM, the Commission seeks comment on possible changes to its rules to require mandatory electronic filing for international telecommunications services. As discussed above, the Commission has continued to make technological advancements in the area of electronic filing. In this proceeding we have sought to further streamline the filing processes.

The rule changes discussed in the International E-Filing NPRM, if adopted, would require the mandatory electronic filing for applications and reports associated with international telecommunications services. The proposal in the International E-Filing NPRM seeks comment on these proposed changes. We believe that the proposals are in the public interest and would not impose undue burdens on all carriers required to file for international telecommunications services pursuant to our rules, including those carriers that are small entities. Further, any burdens caused by implementation of these proposals might be offset by the fact that services to the public would likely be expedited. Therefore, we certify that the proposals in this International E-Filing NPRM, if adopted, would not have a significant economic impact on a substantial number of entities. The Commission will send a copy of the International E-Filing NPRM, including this initial certification, to the Chief Counsel for Advocacy of the Small Business Administration. In addition, the International E-Filing NPRM (or summary) and initial certification will be published in the Federal Register.

Ordering Clauses

Accordingly, pursuant to the authority contained in sections 1, 4(i), 4(j), 11, 201-205, 211, 214, 219, 220, 303(r), 309, and 403 of the Communications Act of 1934, as amended, 47 U.S.C. 151, 154(i), 154(j), 161, 201-205, 211, 214, 219, 220, 303(r), 309 and 403, this notice of proposed rulemaking is hereby adopted and comments are requested as described above.

The Commission's Consumer and Governmental Affairs Bureau, Reference Information Center, shall send a copy of this notice of proposed rulemaking, including the Initial Regulatory Flexibility Certification, to the Chief Counsel for Advocacy of the Small Business Administration.

List of Subjects in 47 CFR Parts 1, 63, and 64

Communications common carriers, Reporting and recordkeeping requirements, Telecommunications.

Federal Communications Commission.
William F. Caton,
Deputy Secretary.

Rule Changes

For the reasons discussed in the preamble, the Federal Communications Commission proposes to amend 47 CFR parts 1, 63, and 64 as follows:

PART 1—PRACTICE AND PROCEDURE

1. The authority citation for part 1 continues to read as follows:

Authority: 47 U.S.C. 151, 154(i), 154(j), 155, 225, 303(r), 309 and 325(e)

.

2. Section 1.767 is amended by revising paragraph (a) introductory text to read as follows:

§ 1.767 Cable landing licenses.

(a) Applications for cable landing licenses under 47 U.S.C. 34-39 and Executive Order No. 10530, dated May 10, 1954, should be filed in accordance with the provisions of that Executive Order. Applications must be filed electronically through the International Bureau Filing System (IBFS). For information on IBFS filing procedures, see generally subpart Y of this part, particularly § 1.10009, and the IBFS homepage at www.fcc.gov/ibfs. These applications should contain the following information:

* * * * *

3. Section 1.10000 is amended by redesignating paragraphs (f) and (g) as (g) and (h) respectively, and by adding a new paragraph (f) to read as follows:

§ 1.10000 What is the purpose of these rules?

* * * * *

(f) These rules require electronic filing for all international section 214 authority, submarine cable landing licenses, other applications for international telecommunications services, and associated filings for which electronic forms are available through IBFS.

* * * * *

4. Section 1.10006 is revised to read as follows:

§ 1.10006 Is electronic filing mandatory?

Electronic filing through the International Bureau Filing System (IBFS) is mandatory for: satellite license applications other than DBS and DARS applications; applications for earth stations to access a non-U.S. satellite not currently authorized to provide the proposed service in the proposed frequencies in the United States; routine earth station applications; international accounting rate change filings; applications related to submarine cable landing license applications; requests for assignment of data network identification codes; foreign carrier affiliation notification filings; applications related to international section 214 applications; international signaling point code filings; and recognized operating agency filings. Except for these applications, electronic filing is voluntary at this time. However, we encourage you to use IBFS to increase time-savings and efficiencies.

PART 63—EXTENSION OF LINES, NEW LINES AND DISCONTINUANCE, REDUCTION, OUTAGE AND IMPAIRMENT OF SERVICE BY COMMON CARRIERS: AND GRANTS OF RECOGNIZED PRIVATE OPERATING AGENCY STATUS

5. The authority citation for part 63 continues to read as follows:

Authority: Sections 1, 4(i), 4(j), 10, 11, 201, 205, 214, 218, 403 and 651 of the Communications Act of 1934, as amended, 47 U.S.C. 151, 154(i), 154(j), 160, 201, 205, 214, 218, 403, and 571, unless otherwise noted.

6. Section 63.11 is amended by revising paragraph (g) to read as follows:

§ 63.11 Notification by and prior approval for U.S. international carriers that are or propose to become affiliated with a foreign carrier.

* * * * *

(g) You must submit your notification electronically through the International Bureau Filing System (IFBS). For additional information on IBFS filing procedures, refer to the rules in part 1, subpart Y, of this chapter and the IBFS homepage at www.fcc.gov/ibfs.

* * * * *

7. Section 63.18 is amended by revising the introductory paragraph to read as follows:

§ 63.18 Contents of applications for international common carriers.

Except as otherwise provided in this part, any party seeking authority pursuant to Section 214 of the Communications Act of 1934, as amended, to construct a new line, or acquire or operate any line, or engage in transmission over or by means of such additional line for the provision of common carrier communications services between the United States, its territories or possessions, and a foreign point shall request such authority by formal application. The application shall be filed electronically through the International Bureau Filing System (IBFS). For information on IBFS filing procedures, see generally part 1, subpart Y, of this chapter, particularly § 1.10009, and the IBFS homepage at www.fcc.gov/ibfs. The application shall be accompanied by a statement showing how the grant of the application will serve the public interest, convenience, and necessity. Such statement shall consist of the following information, as applicable:

* * * * *

8. Section 63.20 is amended by revising the section heading and paragraph (a) to read as follows:

§ 63.20 Fees and filing periods for international service providers.

(a) Each application shall be accompanied by the fee prescribed in subpart G of part 1 of this chapter.

* * * * *

9. Section 63.21 is amended by revising paragraphs (a), (h) and (i) to read as follows:

§ 63.21 Conditions applicable to all international Section 214 authorizations.

* * * * *

(a) Each carrier is responsible for the continuing accuracy of the certifications made in its application. Whenever the substance of any such certification is no longer accurate, the carrier shall as promptly as possible and, in any event, within thirty days, electronically file with the Commission through the International Bureau Filing System (IBFS) a corrected certification referencing the FCC file number under which the original certification was provided. The information may be used by the Commission to determine whether a change in regulatory status may be warranted under § 63.10. See also § 63.11.

* * * * *

(h) Subject to the requirement of § 63.10 that a carrier regulated as dominant along a route must provide service as an entity that is separate from its foreign carrier affiliate, and subject to any other structural-separation requirement in Commission regulations, an authorized carrier may provide service through any wholly owned direct or indirect subsidiaries. The carrier shall, within 30 days after the subsidiary begins providing service, electronically file a notification with the Commission through IBFS referencing the authorized carrier's name and the FCC file numbers under which the carrier's authorizations were granted and identifying the subsidiary's name and place of legal organization. This provision shall not be construed to authorize the provision of service by any entity barred by statute or regulation from itself holding an authorization or providing service.

(i) An authorized carrier, or a subsidiary operating pursuant to paragraph (h) of this section, that changes its name (including the name under which it is doing business) shall electronically notify the Commission within 30 days of the name change. Such notification shall reference the FCC file numbers under which the carrier's authorizations were granted.

10. Section 63.24 is amended by revising paragraphs (e)(4) and (f)(2) introductory text to read as follows:

§ 63.24 Assignments and transfers of control.

* * * * *

(e) * * *

(4) An assignee or transferee shall electronically notify the Commission through the International Bureau Filing System (IBFS) no later than 30 days after either consummation of the proposed assignment or transfer of control, or a decision not to consummate the proposed assignment or transfer of control. The notification shall identify the file numbers under which the initial authorization and the authorization of the assignment or transfer of control were granted.

(f) * * *

(2) A pro forma assignee or a carrier that is subject to a pro forma transfer of control shall electronically notify the Commission of such pro forma transfer through the International Filing System (IBFS) no later than 30 days after the assignment or transfer is completed. The notification must contain the following:

* * * * *

11. Section 63.25 is amended by revising paragraphs (b) and (d)(2) to read as follows:

§ 63.25 Special provisions relating to temporary or emergency service by international carriers.

* * * * *

(b) Requests for immediate authority for temporary service or for emergency service are required to be filed electronically through the International Bureau Filing System (IBFS) setting forth why such immediate authority is required, the nature of the emergency, the type of facilities proposed to be used, the route kilometers thereof, the terminal communities to be served, and airline kilometers between such communities; how these points are currently being served by the applicant or other carriers, the need for the proposed service, the cost involved including any rentals, the date on which the service is to begin, and where known, the date or approximate date on which the service is to terminate. For information on IBFS filing procedures, see generally part 1, subpart Y, of this chapter, particularly § 1.10009, and the IBFS homepage at www.fcc.gov/ibfs.

* * * * *

(d) * * *

(2) Such request is required to be filed electronically through the International Bureau Filing System (IBFS) making reference to this paragraph and setting forth the points between which the applicant desires to operate facilities of other carriers and the nature of the traffic to be handled. For information on IBFS filing procedures, see generally part 1, subpart Y, particularly § 1.10009, and the IBFS homepage at www.fcc.gov/ibfs.

* * * * *

12. Section 63.50 is revised to read as follows:

§ 63.50 Amendment of applications.

Any application may be amended as a matter of right prior to the date of any final action taken by the Commission or designation for hearing. Amendments to applications shall be filed electronically through the International Bureau Filing System (IBFS). For information on IBFS filing procedures, see generally part 1, subpart Y, of this chapter, particularly § 1.10009, and the IBFS homepage at www.fcc.gov/ibfs. If a petition to deny or other formal objections have been filed to the application, the amendment shall be served on the parties.

13. Section 63.51 is amended by revising paragraph (c) to read as follows:

§ 63.51 Additional Information.

* * * * *

(c) You must submit electronically through the International Bureau Filing System (IBFS) any additional information which the Commission may require.

14. Section 63.53 is revised to read as follows:

§ 63.53 Form.

Applications for international service under Section 214 of the Communications Act must be filed electronically on the Internet through the International Bureau Filing System (IBFS). You are not required to send the original or any copies with your fee payment. For information on filing your application through IBFS, see part 1, subpart Y, of this chapter, and the IBFS homepage at www.fcc.gov/ibfs.

15. Section 63.701 is amended by revising the introductory paragraph to read as follows:

§ 63.701 Contents of application.

Except as otherwise provided in this part, any party requesting designation as a recognized operating agency within the meaning of the International Telecommunication Convention shall request such designation. Such designation is required to be filed electronically through the International Bureau Filing System (IBFS). For information on IBFS filing procedures, see generally part 1, subpart Y, of this chapter, particularly § 1.10009, and the IBFS homepage at www.fcc.gov/ibfs. A request for designation as a recognized operating agency within the meaning of the International Telecommunication Convention shall include a statement of the nature of the services to be provided and a statement that the applicant is aware that it is obligated under Article 6 of the ITU Constitution to obey the mandatory provisions thereof, and all regulations promulgated thereunder, and a pledge that it will engage in no conduct or operations that contravene such mandatory provisions and that it will otherwise obey the Convention and regulations in all respects. The applicant must also include a statement that it is aware that failure to comply will result in an order from the Federal Communications Commission to cease and desist from future violations of an ITU regulation and may result in revocation of its recognized private operating agency status by the United States Department of State. Such statement must include the following information where applicable:

* * * * *

PART 64—MISCELLANEOUS RULES RELATING TO COMMON CARRIERS

16. The authority citation for part 64 continues to read as follows:

Authority: 47 U.S.C. 154, 254(k); secs. 403(b)(2)(B), (c), Public Law 104-104, 110 Stat. 56. Interpret or apply 47 U.S.C. 201, 218, 225, 226, 228, and 254(k) unless otherwise noted.

17. Section 64.1001 is amended by revising paragraph (a) to read as follows:

§ 64.1001 Requests to modify international settlement arrangements.

(a) The procedures set forth in this rule apply to carriers that are required to file with the International Bureau, pursuant to § 43.51(e) of this chapter, requests to modify international settlement arrangements. Any operating agreement or amendment for which a modification request is required to be filed cannot become effective until the modification request has been granted under paragraph (e) of this section. You are required to file a modification electronically through the International Bureau Filing System (IBFS). For information on filing your modification through IBFS, see part 1, subpart Y, of this chapter, and the IBFS homepage at www.fcc.gov/ibfs.

* * * * *

18. Section 64.1002 is amended by revising paragraph (c) to read as follows:

§ 64.1002 International settlements policy.

* * * * *

(c) A carrier that seeks to add a U.S. international route to the list of routes that are exempt from the international settlements policy shall make its request in writing to the International Bureau, accompanied by a showing that a U.S. carrier has entered into a benchmark-compliant settlement rate agreement with a foreign carrier that possesses market power in the country at the foreign end of the U.S. international route that is the subject of the request. The required showing shall consist of an effective accounting rate modification, filed pursuant to § 64.1001 of this part, that includes a settlement rate that is at or below the Commission's benchmark settlement rate adopted for that country in IB Docket No. 96-261, Report and Order, 12 FCC Rcd 19,806, 62 FR 45758, Aug. 29, 1997, available on the International Bureau's World Wide Web site at http://www.fcc.gov/ib. The request is required to be filed electronically through the International Bureau Filing System (IBFS). For information on IBFS filing procedures, see generally part 1, subpart Y, of this chapter, particularly § 1.10009, and the IBFS homepage at www.fcc.gov/ibfs.

* * * * *

[FR Doc. 04-17075 Filed 8-6-04; 8:45 am]

BILLING CODE 6712-01-P